DEPARTMENT OF ENERGY

Federal Energy Regulatory Commission

[Docket No. RP03-261-000]

TransColorado Gas Transmission Company; Notice of Proposed Change in FERC Gas Tariff

March 5, 2003.

Take notice that on February 26, 2003 TransColorado Gas Transmission Company (TransColorado) tendered for filing an original and five copies of the following revised tariff sheets to become part of TransColorado's FERC Gas Tariff, First Revised Volume No. 1, and to become effective March 28, 2003:

First Revised Sheet No. 21

First Revised Sheet No. 200

First Revised Sheet No. 22A

First Revised Sheet No. 26

TransColorado states that it is making this housekeeping filing as an effort to update sections of TransColorado's FERC Gas Tariff.

TransColorado states that a copy of this filing has been served upon all of its customers and affected state commissions.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 10, 2003.

Magalie R. Salas,
Secretary.

[FR Doc. 03-5808 Filed 3-11-03; 8:45 am]

BILLING CODE 6717-01-P